DEPARTMENT OF JUSTICE

[AAG/A Order No. 012-2005]

Privacy Act of 1974; Removal of a System of Records Notice

Pursuant to the provisions of the Privacy Act of 1974 (5 U.S.C. 552a), the Department of Justice (DOJ) is removing the published notice of a Privacy Act system of records: The Deputy Attorney General's (DAG) “Honor Program Applicant System, JUSTICE/DAG-004,” last published on October 21, 1985 at 50 FR 42605.

This system notice is unnecessary because the records are adequately covered by a Government-wide system of records notice published by the Office of Personnel Management (OPM): “OPM/GOVT-5, Recruiting, Examining, and Placement Records,” last published in the Federal Register on April 27, 2000 (65 FR 24731, 24741). We note that the National Archives and Records Administration's General Records Schedule (GRS) is revised periodically, and that GRS 1, covering these records, has been updated since OPM published its notice. The Department of Justice maintains these records in accordance with the current disposition schedule for GRS 1. The GRS may be viewed at http://www.archives.gov/records_management/ardor/index.html.

Therefore, the notice of “Honor Program Applicant System, JUSTICE/DAG-004” is removed from the Department's Privacy Act system of records, effective on the date of publication of this notice in the Federal Register.

Dated: November 7, 2005.
Paul R. Corts,
Assistant Attorney General for Administration.

[FR Doc. 05-22638 Filed 11-15-05; 8:45 am]

BILLING CODE 4410-PB-P